COMMISSION ON CIVIL RIGHTS

Sunshine Act Notice

AGENCY: United States Commission on Civil Rights.

ACTION: Notice of meeting.

Date and Time: Tuesday, September 30, 2008; 11 a.m. EDT.

Place: Via Teleconference: Public Dial In-1-800-597-7623, Conference ID# 65389894.

Meeting Agenda

I. Approval of Agenda

II. Program Planning

• FY 2008 Statutory Report: Enforcing Religious Freedom in Prison

• FY 2009 Briefing Topic: Employers' Rights to Specify English as the Language of the Workplace

III. Future Agenda Items

IV. Adjourn

Contact Person for Further Information: Lenore Ostrowsky, Acting Chief, Public Affairs Unit (202) 376-8582.

Dated: September 18, 2008.
David Blackwood,
General Counsel.

[FR Doc. E8-22236 Filed 9-18-08; 4:15 pm]

BILLING CODE 6335-01-P